DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Mobile (FEMA Docket No.: B-1277) | Unincorporated areas of Mobile County (12-04-0468P) | The Honorable Connie Hudson, President, Mobile County Commission, P.O. Box 1443, Mobile, AL 36633 | Mobile County Government Plaza, Engineering Department, 205 Government Street, 3rd Floor, South Tower, Mobile, AL 36644 | December 7, 2012 | 015008
Mobile (FEMA Docket No.: B-1277) | Unincorporated areas of Mobile County (12-04-0469P) | The Honorable Connie Hudson, President, Mobile County Commission, P.O. Box 1443, Mobile, AL 36633 | Mobile County Government Plaza, Engineering Department, 205 Government Street, 3rd Floor, South Tower, Mobile, AL 36644 | December 7, 2012 | 015008
Mobile (FEMA Docket No.: B-1277) | Unincorporated areas of Mobile County (12-04-0470P) | The Honorable Connie Hudson, President, Mobile County Commission, P.O. Box 1443, Mobile, AL 36633 | Mobile County Government Plaza, Engineering Department, 205 Government Street, 3rd Floor, South Tower, Mobile, AL 36644 | December 7, 2012 | 015008
Mobile (FEMA Docket No.: B-1274) | Unincorporated areas of Mobile County (12-04-00828P) | The Honorable Connie Hudson, President, Mobile County Commission, P.O. Box 1443, Mobile, AL 36633 | Mobile County Government Plaza, Engineering Department, 205 Government Street, 3rd Floor, South Tower, Mobile, AL 36644 | November 23, 2012 | 015008
Mobile (FEMA Docket No.: B-1277) | Unincorporated areas of Mobile County (12-04-0467P) | The Honorable Connie Hudson, President, Mobile County Commission, P.O. Box 1443, Mobile, AL 36633 | Mobile County Government Plaza, Engineering Department, 205 Government Street, 3rd Floor, South Tower, Mobile, AL 36644 | December 7, 2012 | 015008
Arizona:
Coconino (FEMA Docket No.: B-1277) | City of Flagstaff (11-09-4084P) | The Honorable Jerry Nabours, Mayor, City of Flagstaff, 211 West Aspen Avenue, Flagstaff, AZ 86001 | City Hall, Utilities Department, 211 West Aspen Avenue, Flagstaff, AZ 86001 | November 19, 2012 | 040020
Coconino (FEMA Docket No.: B-1277) | City of Flagstaff (12-09-1657P) | The Honorable Jerry Nabours, Mayor, City of Flagstaff, 211 West Aspen Avenue, Flagstaff, AZ 86001 | City Hall, Utilities Department, 211 West Aspen Avenue, Flagstaff, AZ 86001 | November 12, 2012 | 040020
Maricopa (FEMA Docket No.: B-1274) | City of Phoenix (12-09-0762P) | The Honorable Greg Stanton, Mayor, City of Phoenix, 200 West Washington Street, 11th Floor, Phoenix, AZ 85003 | Transportation Department, 200 West Washington Street, 5th Floor, Phoenix, AZ 85003 | November 9, 2012 | 040051
Maricopa (FEMA Docket No.: B-1274) | City of Tempe (12-09-0762P) | The Honorable Hugh Hallman, Mayor, City of Tempe, City Hall Municipal Complex, 31 East 5th Street, Tempe, AZ 85281 | City Hall, Engineering Department, 31 East 5th Street, Tempe, AZ 85281 | November 9, 2012 | 040054
Pinal (FEMA Docket No.: B-1274) | City of Coolidge (12-09-0751P) | The Honorable Thomas Shope, Mayor, City of Coolidge, P.O. Box 1627, Coolidge, AZ 85128 | 130 West Central Avenue, Coolidge, AZ 85228 | November 26, 2012 | 040082
Pinal (FEMA Docket No.: B-1274) | Unincorporated areas of Pinal County (12-09-0751P) | The Honorable David Snider, Chairman, Pinal County Board of Supervisors, P.O. Box 827, Florence, AZ 85132 | Pinal County Engineering Department, 31 North Pinal Street, Building F, Florence, AZ 85232 | November 26, 2012 | 040077
California:
Mendocino (FEMA Docket No.: B-1274) | Unincorporated areas of Mendocino County (12-09-1922P) | The Honorable John McCowen, Chairman, Mendocino County Board of Supervisors, 501 Low Gap Road, Ukiah, CA 95482 | Mendocino County Planning Department, 501 Low Gap Road, Ukiah, CA 95482 | December 3, 2012 | 060183
San Diego (FEMA Docket No.: B-1277) | Unincorporated areas of San Diego County (12-09-0511P) | The Honorable Ron Roberts, Chairman, San Diego County Board of Supervisors, 1600 Pacific Highway, Room 335, San Diego, CA 92101 | San Diego County Department of Public Works, 5201 Ruffin Road, Suite P, San Diego, CA 92123 | December 3, 2012 | 060284
Santa Clara (FEMA Docket No.: B-1274) | Unincorporated areas of Santa Clara County (12-09-0752P) | The Honorable George Shirakawa, President, Santa Clara County Board of Supervisors, 70 West Hedding Street, 10th Floor, East Wing, San Jose, CA 95110 | Santa Clara County Planning Department, 70 West Hedding Street, San Jose, CA 95110 | September 13, 2012 | 060337
Colorado:
Adams (FEMA Docket No.: B-1274) | City of Thornton (12-08-0500P) | The Honorable Heidi Williams, Mayor, City of Thornton, 9500 Civic Center Drive, Thornton, CO 80229 | 9500 Civic Center Drive, Thornton, CO 80229 | November 2, 2012 | 080007
Adams (FEMA Docket No.: B-1274) | Unincorporated areas of Adams County (12-08-0500P) | The Honorable W. R. “Skip” Fischer, Chairman, Adams County Board of Commissioners, 4430 South Adams County Parkway, 5th Floor, Suite C5000A, Brighton, CO 80601 | Adams County Public Works Department/Engineering Section, 4430 South Adams County Parkway, 1st Floor, Suite W2123, Brighton, CO 80601 | November 2, 2012 | 080001
Jefferson (FEMA Docket No.: B-1274) | City of Westminster (12-08-0500P) | The Honorable Nancy McNally, Mayor, City of Westminster, 4800 West 92nd Avenue, Westminster, CO 80031 | 4800 West 92nd Avenue, Westminster, CO 80031 | November 2, 2012 | 080008
La Plata (FEMA Docket No.: B-1274) | City of Durango (12-08-0287P) | The Honorable Doug Lyon, Mayor, City of Durango, 949 East 2nd Avenue, Durango, CO 81301 | Administrative Offices, 949 East 2nd Avenue, Durango, CO 81301 | November 26, 2012 | 080099
Weld (FEMA Docket No.: B-1274) | Unincorporated areas of Weld County (12-08-0303P) | The Honorable Sean Conway, Chairman, Weld County Board of Commissioners, P.O. Box 758, Greeley, CO 80632 | Weld County Public Works Department, 1111 H Street, Greely, CO 80632 | November 9, 2012 | 080266
Florida:
Broward (FEMA Docket No.: B-1274) | City of Pompano Beach (12-04-3737P) | The Honorable Lamar Fisher, Mayor, City of Pompano Beach, 100 West Atlantic Boulevard, Pompano Beach, FL 33060 | City Hall, Building Department, 100 West Atlantic Boulevard, 3rd Floor, West Wing, Pompano Beach, FL 33060 | November 9, 2012 | 120055
Charlotte (FEMA Docket No.: B-1274) | Unincorporated areas of Charlotte County (12-04-1172P) | The Honorable Christopher Constance, Chairman, Charlotte County Board of Commissioners, 18500 Murdock Circle, Port Charlotte, FL 33948 | Charlotte County Community Development Department, 18500 Murdock Circle, Port Charlotte, FL 33948 | November 12, 2012 | 120061
Lee (FEMA Docket No.: B-1274) | City of Fort Myers (12-04-4033P) | The Honorable Randy Henderson, Jr., Mayor, City of Fort Myers, 2200 2nd Street, Fort Myers, FL 33901 | Community Development Department, 1825 Hendry Street, Fort Myers, FL 33901 | December 10, 2012 | 125106
Monroe (FEMA Docket No.: B-1274) | Unincorporated areas of Monroe County (12-04-3601P) | The Honorable David Rice, Mayor, Monroe County, 1100 Simonton Street, Key West, FL 33040 | Monroe County Building Department, 2798 Overseas Highway, Marathon, FL 33050 | December 3, 2012 | 125129
Monroe (FEMA Docket No.: B-1274) | Unincorporated areas of Monroe County (12-04-4205P) | The Honorable David Rice, Mayor, Monroe County, 1100 Simonton Street, Key West, FL 33040 | Monroe County Building Department, 2798 Overseas Highway, Marathon, FL 33050 | November 12, 2012 | 125129
Sumter (FEMA Docket No.: B-1274) | Unincorporated areas of Sumter County (12-04-2558P) | The Honorable Garry Breeden, Chairman, Sumter County Board of Commissioners, 7375 Powell Road, Wildwood, FL 34785 | Sumter County Planning Department, 7375 Powell Road, Wildwood, FL 34785 | November 23, 2012 | 120296
Georgia:
Chatham (FEMA Docket No.: B-1277) | City of Savannah (12-04-3661P) | The Honorable Otis Johnson, Mayor, City of Savannah, P.O. Box 1027, Savannah, GA 31402 | City Hall, 2 East Bay Street, Savannah, GA 31401 | December 10, 2012 | 135163
Fulton (FEMA Docket No.: B-1274) | City of Alpharetta (11-04-5468P) | The Honorable David Belle Isle, Mayor, City of Alpharetta, 2 South Main Street, Alpharetta, GA 30009 | 1790 Hembree Road, Alpharetta, GA 30009 | November 23, 2012 | 130084
Muscogee (FEMA Docket No.: B-1277) | City of Columbus—Muscogee County (Consolidated Government) (12-04-1268P) | The Honorable Teresa Tomlinson, Mayor, City of Columbus—Muscogee County (Consolidated Government), 100 10th Street, Columbus, GA 31901 | Engineering Department, 420 10th Street, 2nd Floor, Columbus, GA 31901 | September 24, 2012 | 135158
Muscogee (FEMA Docket No.: B-1274) | City of Columbus—Muscogee County (Consolidated Government) (12-04-1647P) | The Honorable Teresa Tomlinson, Mayor, City of Columbus—Muscogee County (Consolidated Government), 100 10th Street, Columbus, GA 31901 | 420 10th Street, 2nd Floor, Columbus, GA 31901 | November 12, 2012 | 135158
Hawaii: Honolulu (FEMA Docket No.: B-1274) | City and County of Honolulu (12-09-1556P) | The Honorable Peter B. Carlisle, Mayor, City and County of Honolulu, 530 South King Street, Room 300, Honolulu, HI 96813 | Department of Planning and Permitting, 650 South King Street, Honolulu, HI 96813 | November 12, 2012 | 150001
Nevada:
Clark (FEMA Docket No.: B-1274) | Unincorporated areas of Clark County (11-09-4118P) | The Honorable Susan Brager, Chair, Clark County Board of Commissioners, 500 South Grand Central Parkway, Las Vegas, NV 89155 | Clark County Department of Public Works, 500 South Grand Central Parkway, Las Vegas, NV 89155 | December 3, 2012 | 320003
Clark (FEMA Docket No.: B-1274) | Unincorporated areas of Clark County (12-09-0822P) | The Honorable Susan Brager, Chair, Clark County Board of Commissioners, 500 South Grand Central Parkway, Las Vegas, NV 89155 | Clark County Department of Public Works, 500 South Grand Central Parkway, Las Vegas, NV 89155 | November 5, 2012 | 320003
Clark (FEMA Docket No.: B-1274) | Unincorporated areas of Clark County (12-09-0994P) | The Honorable Susan Brager, Chair, Clark County Board of Commissioners, 500 South Grand Central Parkway, Las Vegas, NV 89155 | Clark County Department of Public Works, 500 South Grand Central Parkway, Las Vegas, NV 89155 | November 2, 2012 | 320003
Douglas (FEMA Docket No.: B-1274) | Unincorporated areas of Douglas County (12-09-1513P) | The Honorable Lee Bonner, Chairman, Douglas County Board of Commissioners, P.O. Box 218, Minden, NV 89243 | Douglas County Public Works Department, 1615 8th Street, Minden, NV 89423 | October 22, 2012 | 320008
North Carolina:
Mecklenburg (FEMA Docket No.: B-1277) | Town of Davidson (12-04-0595P) | The Honorable John Woods, Mayor, Town of Davidson, 216 South Main Street, Davidson, NC 28036 | Charlotte-Mecklenburg Stormwater Services Division, 700 North Tryon Street, Charlotte, NC 28202 | December 3, 2012 | 370503
Mecklenburg (FEMA Docket No.: B-1277) | Unincorporated areas of Mecklenburg County (12-04-0595P) | The Honorable Harry L. Jones, Sr., Mecklenburg County Manager, Government Center, 600 East 4th Street, Charlotte, NC 28202 | Charlotte-Mecklenburg Stormwater Services Division, 700 North Tryon Street, Charlotte, NC 28202 | December 3, 2012 | 370158
South Carolina:
Horry (FEMA Docket No.: B-1274) | City of Myrtle Beach (12-04-2445P) | The Honorable John Rhodes, Mayor, City of Myrtle Beach, P.O. Box 2468, Myrtle Beach, SC 29578 | City Services Building, 921 Oak Street, Myrtle Beach, SC 29577 | November 13, 2012 | 450109
Laurens (FEMA Docket No.: B-1277) | Unincorporated areas of Laurens County (12-04-2186P) | The Honorable James A. Coleman, Chairman, Laurens County Council, P.O. Box 445, Laurens, SC 29360 | Laurens County Courthouse, 3 Catherine Street, Laurens, SC 29360 | December 6, 2012 | 450122
Tennessee: Williamson (FEMA Docket No.: B-1274) | City of Brentwood (12-04-1585P) | The Honorable Paul L. Webb, Mayor, City of Brentwood, P.O. Box 788, Brentwood, TN 37024 | City Hall, 5211 Maryland Way, Brentwood, TN 37027 | November 12, 2012 | 470205

(Catalog of Federal Domestic Assistance No. 97.022, “Flood Insurance.”)

James A. Walke,
Acting Deputy Associate Administrator for Mitigation, Department of Homeland Security, Federal Emergency Management Agency.

[FR Doc. 2013-03004 Filed 2-8-13; 8:45 am]

BILLING CODE 9110-12-P